DEPARTMENT OF ENERGY

Environmental Management Advisory Board; Meeting

AGENCY: Department of Energy.

ACTION: Notice of open meeting.

SUMMARY: This notice announces a meeting of the Environmental Management Advisory Board. The Federal Advisory Committee Act (Public law 92-463, 86 Stat. 770) requires that public notice of these meetings be announced in the Federal Register.

DATES: Thursday, October 12, 2000 and Friday, October 13, 2000.

ADDRESSES: U.S. Department of Energy, Forrestal Building, 1000 Independence Avenue SW., (Room 1E-245), Washington, DC 20585.

FOR FURTHER INFORMATION CONTACT: James T. Melillo, Executive Director of the Environmental Management Advisory Board, (EM-10), 1000 Independence Avenue S.W., (Room B-161), Washington, D.C. 20585. The telephone number is 202-586-4400. The Internet address is james.melillo@em.doe.gov.

SUPPLEMENTARY INFORMATION: The purpose of the Board is to provide the Assistant Secretary for Environmental Management (EM) with advice and recommendations on issues confronting the Environmental Management Advisory Program from the perspective of affected groups, as well as state, local, and tribal governments. The Board will contribute to the effective operation of the Environmental Management Program by providing individual citizens and representatives of interested group an opportunity to present their views on issues facing the Office of Environmental Management and by helping to secure consensus recommendations on those issues.

Preliminary Agenda

Thursday, October 12, 2000

1:00 p.m. Public Meeting Opens

—Approve Minutes of April 13-14, 2000 Meeting

Opening Remarks

Ad hoc Committee on Science and Innovation Report*

Ad hoc Committee on Safety and Technology Report

—Interim Report on Safety & Health in Technology Development*

—EM Response to April Resolution

Ad hoc Committee on Recycling of Contaminated Materials

—Letter Report*

Worker Health & Safety Committee Report

—Letter Report on ISM Sustainability—Best Practices*

Technology Development & Transfer Committee Report

—Letter Report on the Gap Analysis of the EQ R&D Portfolio*

Contracting and Management Committee Report

Integration and Transportation Committee Report

Long-Term Stewardship Committee Report

Science Committee Report

Integration and Transportation Report

Public Comment Period

5:15 p.m. Wrap up—Adjourn

Friday, October 13, 2000

8:30 a.m Opening Remarks

Board Discussion

Public Comment Period

Board Business

—Votes on EMAB Findings & Resolutions

—New Business

—Board Calendar

Public comment Period

12:00 p.m.Meeting Adjourns

*The Board anticipates recommendations to be presented.

Public Participation

This meeting is open to the public. If you would like to file a written statement with the Board, you may do so either before or after the meeting. If you would like to make an oral statement regarding any of the items on the agenda, please contact Mr. Melillo at the address or telephone number listed above, or call the Environmental Management Advisory Board office at 202-586-4400, and we will reserve time for you on the agenda. You may also register to speak at the Meeting on October 12-13, 2000, or ask to speak during the public comment period. Those who call in and or register in advance will be given the opportunity to speak first. Others will be accommodated as time permits. The Board Chairs will conduct the meeting in an orderly manner.

Transcript and Minutes

We will make the minutes of the meeting available for public review and copying by November 13, 2000. The minutes and transcript of the meeting will be available for viewing at the Freedom of Information Public Reading Room(1E-190) in the Forrestal Building, U.S. Department of Energy, 1000 Independence Avenue, SW., Washington, DC 20585. The Room is open Monday through Friday from 9 a.m.-4 p.m. except on Federal holidays.

Issued in Washington, DC on September 18, 2000.
Rachel M. Samuel,
Deputy Advisory Committee Management Officer.

[FR Doc. 00-24262 Filed 9-20-00; 8:45 am]

BILLING CODE 6450-01-P